DEFENSE NUCLEAR FACILITIES SAFETY BOARD

Notice of Public Hearing

AGENCY: Defense Nuclear Facilities Safety Board.

ACTION: Notice of public hearing.

SUMMARY: Notice is hereby given that the Defense Nuclear Facilities Safety Board (Board) will hold a public hearing on benchmarking of best practices in management of aging infrastructure.

DATES: The public hearing will be held on August 14, 2024, from 9 a.m. to 3:30 p.m. A detailed agenda is posted at www.dnfsb.gov.

ADDRESSES: The proceeding will take place at the Board's headquarters located at 625 Indiana Avenue NW, Room 352, Washington, DC 20004. The hearing will be open to the public.

FOR FURTHER INFORMATION CONTACT: Tara Tadlock, Associate Director for Board Operations, Defense Nuclear Facilities Safety Board, 625 Indiana Avenue NW, Suite 700, Washington, DC 20004-2901, (202) 694-7176.

SUPPLEMENTARY INFORMATION: The goal for this hearing is to gather information from relevant external organizations on best practices in the management of aging safety infrastructure to inform the development of potential safety improvements to the Department of Energy's programs. The hearing will consist of two sessions, with the first at 9 a.m. and the second at 1 p.m.

In the 9 a.m. session, the Board will hear testimony from representatives from the Government Accountability Office and the American Nuclear Society. In the 1 p.m. session, the Board will hear testimony from the U.S. Nuclear Regulatory Commission, the U.S. Army Corps of Engineers, and the National Aeronautics and Space Administration. While the Department of Energy is not a participant in this hearing, they will be invited to observe the proceeding.

This proceeding will also be broadcast via a live internet video stream. Individuals interested in viewing the hearing may visit: www.dnfsb.gov/public-hearings-meetings/public-hearing-benchmarking-best-practices-management-aging-safety. On the day of the public hearing, a link to view the video stream will be posted on that page. The page may also be accessed by visiting www.dnfsb.gov and clicking: Public Hearing on Benchmarking Best Practices in Management of Aging Safety Infrastructure.

In addition to attending in person or watching the web stream, interested members of the public may also submit written comments to hearing@dnfsb.gov before the hearing record closes at 5 p.m. EDT on Friday, September 13, 2024. All comments received before the hearing record closes will be posted publicly on www.dnfsb.gov.

Additional details, including the detailed agenda for the hearing, are available at www.dnfsb.gov. A transcript of these sessions and the associated correspondence will be made available on the Board's website. The Board specifically reserves its right to further schedule and otherwise regulate the course of the hearing, to recess, reconvene, postpone, or adjourn the hearing, conduct further reviews, and otherwise exercise its authority under the Atomic Energy Act of 1954, as amended.

Authority: 42 U.S.C. 2286b(a).

Dated: July 23, 2024.
Joyce Connery,
Chair.

[FR Doc. 2024-16478 Filed 7-25-24; 8:45 am]

BILLING CODE 3670-01-P